DEPARTMENT OF EDUCATION

List of Correspondence From January 1, 2024, Through December 31, 2024

AGENCY: Office of Special Education and Rehabilitative Services, Department of Education.

ACTION: Notice.

SUMMARY: The U.S. Department of Education (Department), Office of Special Education Programs (OSEP) is publishing the following list of correspondence from the Department during quarters one, two, three, and four of calendar year 2024. The correspondence describes the Department's interpretations of the Individuals with Disabilities Education Act (IDEA) or the regulations that implement IDEA. These letters can be found at https://sites.ed.gov/idea/policy-guidance/.

FOR FURTHER INFORMATION CONTACT: Daniel Schreier, U.S. Department of Education, 400 Maryland Avenue SW, Room 4A10, Washington, DC 20024-2500. Telephone: (202) 245-6352. Email: Daniel.Schreier@ed.gov.

If you are deaf, hard of hearing, or have a speech disability and wish to access telecommunications relay services, please dial 7-1-1.

SUPPLEMENTARY INFORMATION: The following list identifies correspondence for four quarters, January 1, 2024, through December 31, 2024. Under section 607(f) of IDEA, the Secretary is required to publish in the Federal Register a list of correspondence issued to individuals.

OSEP Letters to Individuals

2024—First Quarter, January 1 Through March 31

No letters.

2024—Second Quarter, April 1 Through June 30

No letters.

2024—Third Quarter, July 1 Through September 30

Part B—Assistance for Education of All Children With Disabilities

Section 614—Evaluations, Eligiblity Determinations, Individualized Education Programs, and Educational Placements

Topic Addressed: Evaluations, Parental Consent, and Reevaluations; Indiviualized Education Programs

○ Letter dated July 30, 2024, to Garth Tymeson, Ph.D., addressing requirements related to the evaluation and provision of physical education, under Part B of the IDEA.

○ Letter dated September 5, 2024, to Caitlin E. McAndrews and Stephanie Ramirez, addressing how, under the IDEA, specially designed instruction is determined on a child's individualized education program.

2024—Fourth Quarter, October 1 Through December 31

No letters.

Accessible Format: On request to the person listed under FOR FURTHER INFORMATION CONTACT, individuals with disabilities can obtain a copy of this notice and the letters or other documents described in this notice in an accessible format. The Department will provide the requestor with an accessible format that may include Rich Text Format (RTF) or text format (txt), a thumb drive, an MP3 file, braille, large print, audiotape, compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF, you must have Adobe Acrobat Reader, which is available free at the site.

You may also access documents of the Department published in the Federal Register by using the article search feature at www.federalregister.gov. Specifically, through the advanced search feature at this site, you can limit your search to documents published by the Department.

Diana Diaz,
Deputy Assistant Secretary and Acting Assistant Secretary for Special Education and Rehabilitative Services.

[FR Doc. 2025-08606 Filed 5-14-25; 8:45 am]

BILLING CODE 4000-01-P